ENVIRONMENTAL PROTECTION AGENCY

40 CFR Parts 9, 22, 85, 86, 600, 1033, 1036, 1037, 1039, 1042, 1043, 1065, 1066, and 1068

DEPARTMENT OF TRANSPORTATION

National Highway Traffic Safety Administration

49 CFR Parts 523, 534, 535, and 538

[EPA-HQ-OAR-2014-0827; NHTSA-2014-0132; FRL-9950-25-OAR]

RIN 2060-AS16; RIN 2127-AL52

Greenhouse Gas Emissions and Fuel Efficiency Standards for Medium- and Heavy-Duty Engines and Vehicles—Phase 2

Correction

In rule document 2016-21203, appearing on pages 73478-74274, in the issue of Tuesday, October 25, 2016, make the following corrections:

§ 1036.805 Symbols, abbreviations, and acronyms. [Corrected]

1. On page 74044, in paragraph (b), the table should read as follows:

Symbol | Quantity | Unit | Unit symbol | Unit in terms of SI base units
a | atomic hydrogen-to-carbon ratio | mole per mole | mol/mol | 1.
b | atomic oxygen-to-carbon ratio | mole per mole | mol/mol | 1.
CdA | drag area | meter squared | m² | m².
Crr | coefficient of rolling resistance | kilogram per metric ton | kg/tonne | 10−³.
D | distance | miles or meters | mi or m | m.
e | mass weighted emission result | grams/ton-mile | g/ton-mi | g/kg-km.
Eff | efficiency. |  |  |
Em | mass-specific net energy content | megajoules/kilogram | MJ/kg | m²·s−².
fn | angular speed (shaft) | revolutions per minute | r/min | π·30·s−¹.
i | indexing variable. |  |  |
ka | drive axle ratio. |  |  |
ktopgear | highest available transmission gear. |  |  |
m | mass | pound mass or kilogram | lbm or kg | kg.
M | molar mass | gram per mole | g/mol | 10−³·kg·mol−¹.
M | vehicle mass | kilogram | kg | kg.
Mrotating | inertial mass of rotating components | kilogram | kg | kg.
N | total number in a series. |  |  |
P | power | kilowatt | kW | 10³·m²·kg·s−³.
T | torque (moment of force) | newton meter | N·m | m²·kg·s−².
t | time | second | s | s.
Δt | time interval, period, 1/frequency | second | s | s.
UF | utility factor. |  |  |
v | speed | miles per hour or meters per second | mi/hr or m/s | m·s−¹.
W | work | kilowatt-hour | kW·hr | 3.6·m²·kg·s−¹.
wC | carbon mass fraction | gram/gram | g/g | 1.
wCH4N2O | urea mass fraction | gram/gram | g/g | 1.
x | amount of substance mole fraction | mole per mole | mol/mol | 1.
xb | brake energy fraction. |  |  |
xbl | brake energy limit. |  |  |

§ 1037.550 Powertrain testing. [Corrected]

2. On page 74097, in the third column, TABLE 1 OF § 1037.550—STATISTICAL CRITERIA FOR VALIDATING DUTY CYCLES should read as follows:

Table 1 of § 1037.550—Statistical Criteria for Validating Duty Cycles
Parameter ¹ | Speed control
Slope, a1 | 0.990 ≤ a1 ≤ 1.010.
Absolute value of intercept, |a0| | ≤2.0% of maximum test speed.
Standard error of estimate, SEE | ≤2.0% of maximum test speed.
Coefficient of determination, r² | ≥0.990.
¹ Determine values for specified parameters as described in 40 CFR 1065.514(e) by comparing measured and reference values for fnref,dyno.

[FR Doc. C1-2016-21203 Filed 6-29-17; 8:45 am]

BILLING CODE 1301-00-D